DEPARTMENT OF COMMERCE

National Oceanic and Atmospheric Administration

[I.D. 011106F]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a public meeting of the Special Management Zone (SMZ) Monitoring Team.

DATES: The SMZ Monitoring Team meeting will convene at 9 a.m. on Wednesday, February 1 and conclude no later than 2 p.m. on Thursday, February 2, 2006.

ADDRESSES: The meeting will be held at the National Marine Fisheries Service Laboratory, 3500 Delwood Beach Road, Panama City, FL 32408; telephone: (850) 234-6541.

Council address: Gulf of Mexico Fishery Management Council, 2203 North Lois Avenue, Suite 1100, Tampa, FL 33607.

FOR FURTHER INFORMATION CONTACT: Ron Lukens, SMZ Monitoring Team Chairman; telephone: (228) 875-5912.

SUPPLEMENTARY INFORMATION: The Mississippi Gulf Fishing Banks, Inc. and the Alabama Department of Conservation and Natural Resources/Marine Resources Division have both petitioned the Gulf of Mexico Fishery Management Council (Council) for Special Management Zone (SMZ) status for artificial reef areas off their respective coasts. SMZ status allows for the implementation of gear restrictions that are required when fishing within a zone. This means that regulations for fishing within an SMZ would be different than regulations for fishing anywhere else in the Gulf of Mexico Exclusive Economic Zone, only with respect to gears.

The Council established the SMZ Monitoring Team to provide technical advice regarding requests from petitioners. The SMZ Monitoring Team meeting will consist of the following discussion topics:

•Reports from petitioners

•Discussion regarding adequacy of the reports to address the FMP Framework Provision

•Discussion of data needs

•Discussion of time and location of public workshops

•Wrap up and general discussion of the process

Although other non-emergency issues not on the agenda may come before the SMZ Monitoring Team for discussion, in accordance with the Magnuson-Stevens Fishery Conservation and Management Act (Magnuson-Stevens Act), those issues may not be the subject of formal action during these meetings. Actions of the SMZ Monitoring Team will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Dawn Aring at the Council (see ADDRESSES) at least 5 working days prior to the meeting.

Dated: January 12, 2006.
Emily Menashes,
Acting Director, Office of Sustainable Fisheries, National Marine Fisheries Service.

[FR Doc. E6-456 Filed 1-17-06; 8:45 am]

BILLING CODE 3510-22-S